DEPARTMENT OF DEFENSE

Defense Commissary Agency

Privacy Act of 1974; System of Records

AGENCY: Defense Commissary Agency, DOD.

ACTION: Notice to add systems of records.

SUMMARY: The Defense Commissary Agency proposes to add two systems of records to its inventory of record systems subject to the Privacy Act of 1974 (5 U.S.C. 552a), as amended.

DATES: This action will be effective without further notice on July 2, 2001, unless comments received that would result in a contrary determination.

ADDRESSES: Defense Commissary Agency, 1300 E. Avenue, Fort Lee, VA 23801-1800.

FOR FURTHER INFORMATION CONTACT: Ms. Carole Marsh, Privacy Officer, at (804) 734-8841.

SUPPLEMENTARY INFORMATION: The Defense Commissary Agency notices for systems of records subject to the Privacy Act of 1974 (5 U.S.C. 552a), as amended, have been published in the Federal Register and are available from the address above.

The proposed system report, as required by 5 U.S.C. 522a(r) of the Privacy Act of 1974, as amended, was submitted on May 17, 2001, to the House Committee on Government Reform, the Senate Committee on Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: May 23, 2001.
L.M. Bynum,
Alternate OSD Federal Register Liaison Officer, Department of Defense.

Defense Commissary Agency

Requesting Records

Records are retried by name or by some other personal identifier. It is therefore especially important for expeditious service when requesting a record that particular attention be provided to the Notification and/or Access Procedures of the particular record system involved so as to furnish the required personal identifiers, or any other pertinent personal information as may be required to locate and retrieve the record.

Blanket Routine Uses

Certain ‘blanket routine uses’ of the records have been established that are applicable to every record system maintained within the Department of Defense unless specifically stated otherwise within a particular record system. These additional blanket routine uses of the records are published below only once in the interest of simplicity, economy and to avoid redundancy.

Law Enforcement Routine Use

In the event that a system of records maintained by this component to carry out its functions indicates violation or potential violation of law, whether civil, criminal or regulatory in nature, and whether arising by general statute or by regulation, rule or order issued pursuant thereto, the relevant records in the system of records may be referred, as a routine use, to the appropriate agency, whether Federal, state, local, or foreign,charged with the responsibility of investigating or prosecuting such violation or charged with enforcing or implementing the statute, rule, regulation or order issued pursuant thereto.

Disclosure When Requesting Information Routine Use

A record from a system of records maintained by this component may be disclosed as a routine use to a Federal, state, or local agency maintaining civil, criminal, or other relevant enforcement information or other pertinent information, such as current licenses, if necessary to obtain information relevant to a component decision concerning the hiring or retention of an employee, the issuance of a security clearance, the letting of a contract, or the issuance of a license, grant or other benefit.

Disclosure of Requested Information Routine Use

A record from a system of records maintained by this component may be disclosed to a Federal agency, in response to its request, in connection with the hiring or retention of an employee, the issuance of a security clearance, the reporting of an investigation of an employee, the letting of a contract, or the issuance of a license, grant or other benefit by the requesting agency, to the extent that the information is relevant and necessary to the requesting agency's decision on the matter.

Congressional Inquiries Routine Use

Disclosure from a system of records maintained by this component may be made to a Congressional office from the record of an individual in response to an inquiry from the Congressional office made at the request of that individual.

Private Relief Legislation Routine Use

Relevant information contained in all systems of records of the Department of Defense published on or before August 22, 1975, may be disclosed to the Office of Management and Budget in connection with the review of private relief legislation as set forth in OMB Circular A-19 at any stage of the legislative coordination and clearance process as set forth in that Circular.

Disclosures Required by International Agreements Routine Use

A record from a system of records maintained by this component may be disclosed to foreign law enforcement, security, investigatory, or administrative authorities in order to comply with requirements imposed by, or to claim rights conferred in, international agreements and arrangements including those regulating the stationing and status in foreign countries of Department of Defense military and civilian personnel.

Disclosure to State and Local Taxing Authorities Routine Use

Any information normally contained in IRS Form W-2 which is maintained in a record from a system of records maintained by this component may be disclosed to state and local taxing authorities with which the Secretary of the Treasury has entered into agreements pursuant to Title 5, U.S. Code, sections 5516, 5517, 5520, and only to those state and local taxing authorities for which an employee or military member is or was subject to tax regardless of whether tax is or was withheld. This routine use is in accordance with Treasury Fiscal Requirements Manual Bulletin Number 76-07.

Disclosure to the Office of Personnel Management Routine Use

A record from a system of records subject to the Privacy Act and maintained by this component may be disclosed to the Office of Personnel Management concerning information on pay and leave, benefits, retirement deductions, and any other information necessary for the Office of Personnel Management to carry out its legally authorized Government-wide personnel management functions and studies.

Disclosure to the Department of Justice for Litigation Routine Use

A record from a system of records maintained by this component may be disclosed as a routine use to any component of the Department of Justice for the purpose of representing the Department of Defense, or any officer, employee or member of the Department in pending or potential litigation to which the record is pertinent.

Disclosure to Military Banking Facilities Overseas Routine Use

Information as to current military addresses and assignments may be provided to military banking facilities who provide banking services overseas and who are reimbursed by the Government for certain checking and loan losses. For personnel separated, discharged, or retired from the Armed Forces, information as to last known residential or home of record address may be provided to the military banking facility upon certification by a banking facility officer that the facility has a returned or dishonored check negotiated for the individual or the individual has defaulted on a loan and that if restitution is not made by the individual, the U.S. Government will be liable for the losses the facility may incur.

Disclosure of Information to the General Services Administration Routine Use

A record from a system of records maintained by this component may be disclosed as a routine use to the General Services Administration for the purpose of records management inspections conducted under authority of 44 U.S.C. 2904 and 2906.

Disclosure of Information to the National Archives and Records Administration Routine Use

A record from a system of records maintained by this component may be disclosed as a routine use to the National Archives and Records Administration for the purpose of records management inspections conducted under authority of 44 U.S.C. 2904 and 2906.

Disclosure to the Merit Systems Protection Board Routine Use

A record from a system of records maintained by this component may be disclosed as a routine use to the Merit Systems Protection Board, including the Office of the Special Counsel for the purpose of litigation, including administrative proceedings, appeals, special studies of the civil service and other merit systems, review of OPM or component rules and regulations, investigation of alleged or possible prohibited personnel practices; including administrative proceedings involving any individual subject of a DoD investigation, and such other functions, promulgated in 5 U.S.C. 1205 and 1206, or as may be authorized by law.

Counterintelligence Purposes Routine Use

A record from a system of records maintained by this component may be disclosed as a routine use outside the DoD or the U.S. Government for the purposes of counterintelligence activities authorized by U.S. Law or Executive Order or for the purpose of enforcing laws which protect the national security of the United States.

ZIG 001

System Name:

Commissary Patron Inquiry, Complaint, Comment, and Suggestion Files.

System Location:

Office of the Inspector General, Defense Commissary Agency, 1300 E. Avenue, Fort Lee, VA 23801-1800.

Categories of Individuals Covered by the System:

Patrons of the Commissaries who make inquiries, complaints, comments, or suggestions on it's operations.

Categories of Records in the System:

Customer's name, address, telephone number, and e-mail address; information pertaining to the subject of inquiry, complaint, comment, or suggestion, and response thereto; customer opinion survey data.

Authority for Maintenance of the System:

5 U.S.C. 301, Departmental Regulations; and 10 U.S.C. 2482, Commissary stores: operation.

Purpose(s):

To aid the Defense Commissary Agency in determining needs of customers, responding to the customer's inquiries and comments, and determining action required to settle customer complaints.

Routine Uses of Records maintained in the System, Including Categories of Users and the Purposes of Such Uses:

In addition to those disclosures generally permitted under 5 U.S.C. 552a(b) of the Privacy Act, these records or information contained therein may specifically be disclosed outside the DoD as a routine use pursuant to 5 U.S.C. 552a(b)(3) as follows:

The DoD “Blanket Routine Uses” set forth at the beginning of the Defense Commissary Agency's compilation of systems of records notices apply to this system.

Policies and Practices for Storing, Retrieving, Accessing, Retaining, and Disposing of Records in the System:

Storage:

Automated and paper records stored in file folders and computerized database.

Retrievability:

By customer's name, case number, e-mail address, and commissary.

Safeguards:

Paper and automated records are stored in rooms with restricted access in a secure building. In addition, access is limited to the Inspector General staff in performance of their official duties.

Retention and Disposal:

Records are destroyed by shredding after 2 years.

System manager(s) and address:

Your Action Line Coordinator, Office of the Inspector General, Defense Commissary Agency, 1300 E. Avenue, Fort Lee, VA 23801-180.

Notification Procedure:

Individuals seeking to determine whether this system of records contains information about themselves should address written inquiries to the Freedom of Information Act/Privacy Officer, Defense Commissary Agency, 1300 E. Avenue, Fort Lee, VA 23801-1800.

The request should contain the individual's full name, address, and telephone number. These items are necessary for the retrieval of information. Requests submitted on behalf of other persons must include their written authorization.

Record Access Procedures:

Individuals seeking access to information about themselves contained in this system should address written inquiries to the Freedom of Information Act/Privacy Officer, Defense Commissary Agency, 1300 E. Avenue, Fort Lee, VA 23801-1800.

The request should contain the individual's full name, address, and telephone number. These items are necessary for the retrieval of information. Requests submitted on behalf of other persons must include their written authorization.

Contesting Record Procedures:

The Defense Commissary Agency's rules for accessing records, for contesting contents and appealing initial agency determinations are contained in Defense Commissary Agency Directive 30-13; 32 CFR part 327; or may be obtained from the Freedom Of Information Act/Privacy Officer at 1300 E. Avenue, Fort Lee, VA 23801-1800.

Record Source Categories:

From the individual.

Exemption Claimed for the System:

None.

ZGC 001

System Name:

General Counsel Case Files.

System Location:

Office of the General Counsel, Headquarters, Defense Commissary Agency (DeCa), ATTN: GC, 1300 E. Avenue, Fort Lee, VA 23801-1800.

Categories of Individuals Covered by the System:

Any individual who may or has filed a claim, a complaint or similar pleading or instituted litigation against the Defense Commissary Agency in a court or administrative body or in an established administrative dispute resolution procedure in which a Defense Commissary Agency employee or the Defense Commissary Agency is name as a defendant concerning matters under the cognizance of the General Counsel, Defense Commissary Agency.

Categories of Records in the System:

Name of the party bringing the action, home address, telephone number, location, type of case and other details including settlement and resolution.

Authority for Maintenance of the System:

5 U.S.C. 301, Department Regulations and 10 U.S.C. 2482, Commissary stores: operation.

Purpose(s):

The records are used to evaluate, adjudicate, defend, prosecute, or settle claims or lawsuits.

Routine Uses of Records Maintained in the System, Including Categories of Users and the Purposes of Such Uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of the Defense Commissary Agency's compilation of systems of records notices apply to this system.

Policies and Practices for Storing, Retrieving, Accessing, Retaining, and Disposing of Records in the System:

Storage:

Automated and paper records stored in file folders and computerized database.

Retrievability:

Name of litigant or anticipated litigant and case number.

Safeguards:

Paper and automated records are stored in rooms with restricted access in a secure building. Access is limited to the General Counsel staff in performance of their official duties.

Retention and disposal:

Records retained for six years after final action, then destroyed. Paper records are shredded.

System Manager(s) and Address:

Administrative Support Assistant, Office of the General Counsel, Headquarters, Defense Commissary Agency, 1300 E. Avenue, Fort Lee, VA 23801-1800.

Notification Procedure:

Individuals seeking to determine whether this system of records contains information about themselves should address written inquiries to the Freedom of Information Act/Privacy Officer, Defense Commissary Agency, 1300 E. Avenue, Fort Lee, VA 23801-1800.

The request should contain the individual's full name, address, and telephone number. These items are necessary for the retrieval of information. Requests submitted on behalf of other persons must include their written authorization.

Record Access Procedures:

Individuals seeking access to records about themselves contained in this system of records should address written inquiries to the Freedom of Information Act/Privacy Officer, Defense Commissary Agency, 1300 E. Avenue, Fort Lee, VA 23801-1800.

The request should contain the individual's full name, address, and telephone number. These items are necessary for the retrieval of information. Requests submitted on behalf of other persons must include their written authorization.

Contesting Record Procedures:

The Defense Commissary Agency's rules for accessing records, for contesting contents and appealing initial agency determinations are contained in Defense Commissary Agency Directive 30-13; 32 CFR part 327; or may be obtained from the Freedom of Information Act/Privacy Officer at 1300 E. Avenue, Fort Lee, VA 23801-1800.

Record Source Categories:

From all sources with information which may impact upon actual or anticipated litigation, e.g., administrative boards, other record systems within DeCA, DoD, and third parties who provide information voluntarily or in response to discovery.

Exemptions claimed for the System:

None.

[FR Doc. 01-13751 Filed 5-31-01; 8:45 am]

BILLING CODE 5001-08-M